INTERNATIONAL TRADE COMMISSION

[USITC SE-02-036]

Sunshine Act Meeting

Agency Holding the Meeting: International Trade Commission.

Time and Date: December 13, 2002, at 2 p.m.

Place: Room 101, 500 E Street SW., Washington, DC 20436. Telephone: (202) 205-2000.

Status: Open to the public.

Matters to be Considered: 1. Agenda for future meetings: none.

2. Minutes.

3. Ratification list.

4. Inv. No. 731-TA-1021 (Preliminary)(Malleable Cast Iron Pipe Fittings from China)—briefing and vote. (The Commission is currently scheduled to transmit its determination to the Secretary of Commerce on or before December 16, 2002; Commissioners' opinions are currently scheduled to be transmitted to the Secretary of Commerce on or before December 23, 2002.)

5. Inv. No. 701-TA-431 (Preliminary)(DRAMs and DRAM Modules from Korea)—briefing and vote. (The Commission is currently scheduled to transmit its determination to the Secretary of Commerce on or before December 16, 2002; Commissioners' opinions are currently scheduled to be transmitted to the Secretary of Commerce on or before December 23, 2002.)

6. Outstanding action jackets: none.

In accordance with Commission policy, subject matter listed above, not disposed of at the scheduled meeting, may be carried over to the agenda of the following meeting.

Issued: November 21, 2002.
By order of the Commission.
Marilyn R. Abbott,
Secretary to the Commission.

[FR Doc. 02-30087 Filed 11-22-02; 10:49 am]

BILLING CODE 7020-02-P